SMALL BUSINESS ADMINISTRATION

Public Federal Regulatory Enforcement Fairness Hearing; Small Business Administration; Region III Regulatory Fairness Board

March 18, 2005.

The Small Business Administration Region III Regulatory Fairness Board and the SBA Office of the National Ombudsman will hold a public hearing on Thursday, April 7, 2005, at 1 p.m. at the National College of Business & Technology, Roanoke Valley Campus, 1813 East Main Street, Conference Center, Room 135, Salem, VA 24153, phone (540) 986-1800, Ext. 402, to receive comments and testimony from small business owners, small government entities, and small non-profit organizations concerning regulatory enforcement and compliance actions taken by Federal agencies.

Anyone wishing to attend or to make a presentation must contact Peggy FaJohn in writing or by fax, in order to be put on the agenda. Peggy FaJohn, Public Information Officer, SBA Richmond District Office, 400 N. 8th Street, Suite 1150, Richmond, VA 23240, phone (804) 771-2400, Ext. 126, fax (202) 481-4891, e-mail: margaret.fajohn@sba.gov.

For more information, see our Web site at http://www.sba.gov/ombudsman.

Matthew K. Becker,
Committee Management Officer, Office of the Administrator.

[FR Doc. 05-5942 Filed 3-24-05; 8:45 am]

BILLING CODE 8025-01-P